DEPARTMENT OF HOUSING AND URBAN DEVELOPMENT

[Docket No. FR-7011-N-15]

30-Day Notice of Proposed Information Collection: HUD Standard Grant Application Forms

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: May 30, 2019.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A. The Federal Register notice that solicited public comment on the information collection for a period of 60 days was published on February 27, 2019 at 84 FR 6434.

A. Overview of Information Collection

Title of Information Collection: HUD Standardized Grant Application Forms.

OMB Approval Number: 2501-0017.

Type of Request: Reinstatement with change of a previously approved collection.

Form Number: SF-424; HUD-2880; HUD-424 CB; HUD-424 CBW; HUD-96011.

Description of the need for the information and proposed use: Approval is sought for extension of HUD standardized forms which are used by various HUD competitive grant programs in the grant application process. The HUD Common Budget Form—(HUD-CB), the Common Budget Form Worksheet (HUD-CBW), and the HUD Matrix (HUD-M) are used to offer standardized grant application processes for several HUD programs. The policy of standardization is in accordance with the provisions of the Federal Financial Assistance Improvement Act of 1999 (Pub. L. 106-107, signed November 20, 1999). In addition, the collection references a number of standard forms from the government wide SF Family of Forms. These forms are used for all HUD applications. However, the burden associated with those forms is not reflected in this collection because that burden is reflected in Office of Management and Budget sponsored government-wide information collections.

The HUD Form 2880 is being added to this collection. HUD Form 2880, the Applicant/Recipient Disclosure/Update Report, is required of all entities applying for assistance from HUD for a specific project or activity in excess of $200,000 during the fiscal year. The collection is removing HUD 424 SUPP because the information is no longer collected and has been continued.

Information collection | Number of respondents | Frequency of response | Responses per annum | Burden hour per response | Annual burden hours | Hourly cost per response | Annual cost
SF-424 Application for Federal Assistance | 0.00 | 0.00 | 0.00 | 0.00 | 0.00 | $0.00 | $0.00
HUD-2880 Applicant/Recipient/Disclosure/Update Report | 7,500.00 | 1.00 | 7,500.00 | 2.00 | 15,000.00 | 20.88 | 313,200.00
HUD-424 CB Grant Application Detailed Budget | 650.00 | 1.00 | 650.00 | 2.00 | 1,300.00 | 20.88 | 27,144.00
HUD-424 CBW Grant Application Detailed Budget Worksheet | 550.00 | 1.00 | 550.00 | 3.20 | 1,760.00 | 20.88 | 36,748.80
HUD-96011 facsimile form | 1.00 | 1.00 | 1.00 | 0.05 | 0.05 | 20.88 | 1.04
Total | 8,701.00 |  | 8,701.00 | 7.25 | 18,060.05 |  | 377,093.84

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. Chapter 35.

Dated: April 18, 2019.
Anna P. Guido,
Department Reports Management Officer, Office of the Chief Information Officer.

[FR Doc. 2019-08750 Filed 4-29-19; 8:45 am]

BILLING CODE 4210-67-P